DEPARTMENT OF HEALTH AND HUMAN SERVICES

Administration for Children and Families

Announcement of the Award of Nine Single-Source Expansion Supplement Grants

AGENCY: Office of Refugee Resettlement, ACF, HHS.

ACTION: Notice to announce the award of nine single-source expansion supplement grants to the Voluntary Agencies Matching Grant program grantees.

CFDA Number: 93.567.

Statutory Authority: (A) Section 412 (c)(1)(A) of the Immigration and Nationality Act (INA)(8 U.S.C. 1522(c)(1)(A)), as amended, which authorizes the Director * * *

* * *to make grants to, and enter into contracts with, public or private nonprofit agencies for projects specifically designed—(i) to assist refugees in obtaining the skills that are necessary for economic self-sufficiency, including projects for job training, employment services, day care, professional refresher training, and other recertification services; (ii) to provide training in English where necessary (regardless of whether the refugees are employed or receiving cash or other assistance); and (iii) to provide where specific needs have been shown and recognized by the Director, health (including mental health) services, social services, education and other services.

(B) Refugee Assistance Extension Act of 1986, Public Law 99-605, Nov 6, 1986, 100 Stat. 3449:

Section 7. Maintaining Funding Level of Matching Grant Program

(a) Maintaining Funding Level—Subject to the availability of appropriations, the Director of the Office of Refugee Resettlement shall not reduce the maximum average federal contribution level per refugee in the matching grant program and shall not increase the percentage grantee matching requirement under that program below the level, or above the percentage, in effect under the program for grants in fiscal year 1985.

(b) Matching Grant Program—The “matching grant program” referred to in subsection (a) is the voluntary agency program which is known as the matching grant program and is funded under section 412(c) of the Immigration and Nationality Act.

Project Period: February 1, 2011-September 30, 2011.

SUMMARY: The Office of Refugee Resettlement (ORR) announces the award of $65,309,200 single-source expansion supplement grants to nine Voluntary Agencies Matching Grant Program cooperative agreement holders. The Voluntary Agencies Matching Grant Program currently operates on a program year from February 1 to January 31. ORR seeks to align the program with the Federal Fiscal Year. The single-source expansion supplement grants will ensure that during the eight-month adjustment period, the ORR-eligible populations will continue to have access to program services without interruption.

Following is a listing of the awardees, their location, and their amount of award:

Grantee | Location | Amount of expansion supplement
Church World Service/Immigration & Refugee Program | New York, NY | $4,694,800
Domestic and Foreign Missionary Society of the Protestant Episcopal Church of the U.S.A. | New York, NY | 3,601,400
Ethiopian Community Development Council/Refugee Resettlement Program | Arlington, VA | 1,782,000
HIAS, Inc. (Hebrew Immigrant Aid Society)/Refugee and Immigrant Services | New York, NY | 1,432,200
International Rescue Committee/Resettlement | New York, NY | 8,173,000
Lutheran Immigration & Refugee Service | Baltimore, MD | 6,670,400
U.S. Conference of Catholic Bishops | Washington, DC | 22,165,000
U.S. Committee for Refugees & Immigrants | Arlington, VA | 12,542,200
World Relief Corporation of National Association of Evangelicals/Refugee & Immigration Programs | Baltimore, MD | 4,248,200

FOR FURTHER INFORMATION CONTACT: Mr. Eskinder Negash, Director, Office of Refugee Resettlement, Administration for Children and Families, 901 D Street, SW., Washington, DC 20047. Telephone: 202-401-5388. E-mail: Eskinder.Negash@acf.hhs.gov.

Dated: May 25, 2011.
Eskinder Negash,
Director, Office of Refugee Resettlement.

[FR Doc. 2011-13677 Filed 6-1-11; 8:45 am]

BILLING CODE 4184-01-P